DEPARTMENT OF COMMERCE

Foreign-Trade Zones Board

[Order No. 1932]

Reissuance of Grant of Authority and Merger Into One Zone; Foreign-Trade Zone 66, Wilmington, NC, Foreign-Trade Zone 67, Morehead City, NC, and Foreign-Trade Zone 214, Kinston, NC

Pursuant to its authority under the Foreign-Trade Zones Act of June 18, 1934, as amended (19 U.S.C. 81a-81u), and the Foreign-Trade Zones Board Regulations (15 CFR Part 400), the Foreign-Trade Zones Board (the Board) adopts the following Order:

The Foreign-Trade Zones (FTZ) Board (the Board) has considered the application (docketed 12/19/13) submitted by the North Carolina Department of Transportation (NCDOT), grantee of FTZ 66 (Wilmington, North Carolina) and FTZ 67 (Morehead City, North Carolina), requesting that the grant of authority for FTZ 214 (Kinston, North Carolina) be reissued to NCDOT and that FTZ 66, FTZ 67 and FTZ 214 be merged into one zone to be designated as FTZ 214. Existing Site 1 of FTZ 66 will be renumbered as Site 5 of FTZ 214 and existing Sites 1 and 2 of FTZ 67 will be renumbered as Sites 6 and 7 of FTZ 214. NCDOT has accepted such reissuance subject to approval by the FTZ Board. Upon review, the Board finds that the requirements of the FTZ Act and the Board's regulations are satisfied, and that the proposal is in the public interest.

Therefore, the Board approves the application and recognizes the North Carolina Department of Transportation as the new grantee for Foreign-Trade Zone 214 and the merger of FTZ 66, FTZ 67 and FTZ 214 into one zone to be designated as FTZ 214, subject to the FTZ Act and the Board's regulations, including Section 400.13, and to the Board's standard 2,000-acre activation limit for the zone.

Signed at Washington, DC, this 28th day of February, 2014.
Paul Piquado,
Assistant Secretary of Commerce for Enforcement and Compliance, Alternate Chairman, Foreign-Trade Zones Board.

[FR Doc. 2014-05248 Filed 3-11-14; 8:45 a.m.]

BILLING CODE 3510-DS-P